FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 13507F.

Name: Cargo Carriers Ltd.

Address: 3729 Union Road, Suite 17, Cheektowaga, NY, 14225-4246.

Date Revoked: July 30, 2003.

Reason: Failed to maintain a valid bond.

License Number: 4015F.

Name: Caribbean Cold Storage, Inc.

Address: 1505 Dennis Street, Jacksonville, FL 32204.

Date Revoked: August 1, 2003.

Reason: Failed to maintain a valid bond.

License Number: 4407F.

Name: JCC International, Inc.

Address: 6275 N. State Road, #7, Madison, IN 47250.

Date Revoked: July 17, 2003.

Reason: Failed to maintain a valid bond.

License Number: 3879NF.

Name: S.Q. Unlimited Transportation Services, Inc., dba S.Q. Ocean Services.

Address: 1040 Industry Drive, Seattle, WA 98188.

Date Revoked: August 1, 2003.

Reason: Surrendered license voluntarily.

License Number: 16277N.

Name: Trans-Union Group (Miami) Co.

Address: 2801 NW 74th Avenue, Suite 173, Miami, FL 33122.

Date Revoked: July 24, 2003.

Reason: Failed to maintain a valid bond.

Sandra L. Kusumoto,
Director, Bureau of Consumer Complaints and Licensing.

[FR Doc. 03-21317 Filed 8-19-03; 8:45 am]

BILLING CODE 6730-01-P